DEPARTMENT OF LABOR

Employee Benefits Security Administration

Working Group on Fee and Related Disclosures to Participants, Advisory Council on Employee Welfare and Pension Benefit Plans; Notice of Meeting

Pursuant to the authority contained in Section 512 of the Employee Retirement Income Security Act of 1974 (ERISA), 29 U.S.C. 1142, a public meeting will be held on Tuesday, September 21, 2004, of the Advisory Council on Employee Welfare and Pension Benefit Plans Working Group assigned to study fee and related disclosures to plan participants. The working group will study fee and related disclosures to participants in defined contribution plans that relate to investment decisions and retirement savings in order to help participants manage their retirement savings more effectively.

The session will take place in Room N3437 A-C, U.S. Department of Labor Building, 200 Constitution Avenue, NW., Washington, DC 20210. The purpose of the meeting, which will begin at 8:30 a.m. and end at approximately 5 p.m. with a one-hour lunch break at noon, is for the working group to hear from select witnesses on the issue.

Organizations or members of the public wishing to submit a written statement pertaining to the topic may do so by submitting 20 copies on or before September 14, 2004 to Debra Golding, ERISA Advisory Council, U.S. Department of Labor, Room N-5656, 200 Constitution Avenue, NW., Washington, DC 20210. Statements received on or before September 14, 2004 will be included in the record of the meeting. Individuals or representatives of organizations wishing to address the Working Group should forward their request to Debra Golding at the above address or via telephone at (202) 693-8664. Oral presentations will be limited to 20 minutes, time permitting, but an extended statement may be submitted for the record. Individuals with disabilities who need special accommodations should contact Debra Golding by September 14 at the address indicated in this notice.

Signed at Washington, DC this 24th day of August, 2004.
Bradford P. Campbell,
Deputy Assistant Secretary for Policy, Employee Benefits Security Administration.

[FR Doc. 04-19670 Filed 8-27-04; 8:45 am]

BILLING CODE 4510-29-M